AGENCY FOR INTERNATIONAL DEVELOPMENT

Notice of January 18, 2018 Advisory Committee on Voluntary Foreign Aid Meeting

AGENCY: United States Agency for International Development.

ACTION: Notice of meeting.

Pursuant to the Federal Advisory Committee Act, notice is hereby given of a meeting of the Advisory Committee on Voluntary Foreign Aid (ACVFA).

Date: Thursday, January 18, 2018.

Time: 2:00-4:00 p.m.

Location: Horizon Ballroom, The Ronald Reagan Building, 1300 Pennsylvania Ave. NW, Washington DC 20004.

Purpose

The Advisory Committee on Voluntary Foreign Aid (ACVFA) brings together USAID and private voluntary organization officials, representatives from universities, international nongovernment organizations, U.S. businesses, and government, multilateral, and private organizations to foster understanding, communication, and cooperation in the area of foreign aid.

Agenda

USAID leadership will make opening remarks, followed by a presentation and discussion on the principles, benchmarks, and programs that the Agency is considering to support countries along their development journey to self-reliance and long-term prosperity. The full meeting agenda will be forthcoming on the ACVFA website at http://www.usaid.gov/who-we-are/organization/advisory-committee.

Stakeholders

The meeting is free and open to the public. Persons wishing to attend should register online at http://www.usaid.gov/who-we-are/organization/advisory-committee.

FOR FURTHER INFORMATION CONTACT: Jessica Klein, acvfa@usaid.gov or 202-712-5856.

Dated: December 18, 2017.
Jessica Klein,
Acting Executive Director, U.S. Agency for International Development.

[FR Doc. 2017-28152 Filed 12-28-17; 8:45 am]

BILLING CODE P